DEPARTMENT OF LABOR

Employment and Training Administration

Investigations Regarding Certifications of Eligibility To Apply for Worker Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than March 6, 2003.

Interested persons are invited to submit written comments regarding the subject matter of the investigations to the Director, Division of Trade Adjustment Assistance, at the address shown below, not later than March 6, 2003.

The petitions filed in this case are available for inspection at the Office of the Director, Division of Trade Adjustment Assistance, Employment and Training Administration, U.S. Department of Labor, Room C-5311, 200 Constitution Avenue, NW., Washington, DC 20210.

Signed at Washington, DC, this 27th day of January 2003.
Edward A. Tomchick,
Director, Division of Trade Adjustment Assistance.

Appendix
[Petitions Instituted Between 01/22/2003 and 01/24/2003]
TA-W | Subject firm (petitioners) | Location | Date of institution | Date of petition
50,604 | Cessna Aircraft Company (Wkrs) | Wichita, KS | 01/22/2003 | 01/14/2003
50,605 | Jackson Sewing Center (Wkrs) | Madisonville, TN | 01/22/2003 | 01/10/2003
50,606 | Emerson Tool Company (Comp) | Paris, TN | 01/22/2003 | 01/10/2003
50,607 | Nortel Networks (Wkrs) | RTP, NC | 01/22/2003 | 12/16/2002
50,508 | A.O. Smith Electrical Products Co. (Comp) | McMinnville, TN | 01/22/2003 | 01/09/2003
50,609 | Cendant Corporation (Wkrs) | Elizabethton, TN | 01/22/2003 | 01/13/2003
50,610 | Warnaco, Inc. (Wkrs) | Thomasville, GA | 01/22/2003 | 01/13/2003
50,611 | Acme Electronics, LLC (Comp) | Cuba, NY | 01/22/2003 | 11/26/2002
50,612 | O. Mustad and Son, Inc. (Wkrs) | Auburn, NY | 01/22/2003 | 01/06/2003
50,613 | Foamex, L.P. (Comp) | Milan, TN | 01/22/2003 | 01/01/2003
50,614 | Auto Sound/Entronix (MN) | Eveleth, MN | 01/22/2003 | 01/16/2003
50,615 | BP Solar, LLC (Comp) | Toano, VA | 01/22/2003 | 01/18/2003
50,616 | Connector Service Corporation (Wkrs) | Mentor, OH | 01/22/2003 | 01/10/2003
50,617 | BP Solar, LLC (Comp) | Fairfield, CA | 01/22/2003 | 01/18/2003
50,618 | F/V Lila-L (Comp) | Nanek, AK | 01/22/2003 | 01/16/2003
50,619 | Neenah Paper Co. (PACE) | Neenah, WI | 01/22/2003 | 01/17/2003
50,620 | Youngstown Forge (Wkrs) | Youngstown, OH | 01/22/2003 | 01/21/2003
50,621 | F/V Frances A. (Comp) | Naknek, AK | 01/22/2003 | 01/18/2003
50,622 | Dallas Semiconductor/Maxim (Wkrs) | Dallas, TX | 01/22/2003 | 01/09/2003
50,623 | Arimon Technologies, Inc. (Comp) | Montello, WI | 01/22/2003 | 01/17/2003
50,624 | Agilent Technologies (Wkrs) | Loveland, CO | 01/22/2003 | 01/16/2003
50,625 | F/V Thunderbird/Seahunter Fisheries (Comp) | Anchorage, AK | 01/22/2003 | 01/21/2003
50,626 | Crowe Logging, Inc. (Wkrs) | Encampment, WY | 01/22/2003 | 01/15/2003
50,627 | F/V Blue Angel (Comp) | Naknek, AK | 01/22/2003 | 01/20/2003
50,628 | Xerox Corporation (Wkrs) | Irving, TX | 01/22/2003 | 01/18/2003
50,629 | Truth Hardware (GMP) | W. Hazleton, PA | 01/22/2003 | 01/20/2003
50,630 | F/V Alica Dawn (Comp) | Tagiak, AK | 01/22/2003 | 01/17/2003
50,631 | Garden State Tanning (Comp) | Williamsport, MD | 01/22/2003 | 01/21/2003
50,632 | Trans Air Manufacturing (Comp) | Mt. Pleasant, IA | 01/22/2003 | 01/14/2003
50,633 | R.G. Barry Corporation (Comp) | Goldsboro, NC | 01/22/2003 | 12/20/2002
50,634 | International Paper (Comp) | Hopkinsville, KY | 01/22/2003 | 01/20/2003
50,635 | Science Application International (AK) | Anchorage, AK | 01/22/2003 | 01/21/2003
50,636 | F/V Indiana (Comp) | Ketchikan, AK | 01/22/2003 | 01/21/2003
50,637 | Sitka Sound Seafoods (AK) | Yakutat, AK | 01/22/2003 | 01/21/2003
50,638 | Golden View Fisheries, Inc. (Comp) | Anchorage, AK | 01/22/2003 | 01/16/2003
50,639 | Maya Kanulie (Comp) | Togiak, AK | 01/22/2003 | 01/17/2003
50,640 | Pechiney Rolled Products, LLC (Comp) | Ravenswood, WV | 01/23/2003 | 12/23/2002
50,641 | Shipley (MA) | Marlboro, MA | 01/23/2003 | 01/22/2003
50,642 | Motorola, Inc. (Comp) | Ft. Worth, TX | 01/23/2003 | 11/27/2002
50,643 | Aran Mold and Die Co., Inc. (Comp) | Elmwood Park, NJ | 01/23/2003 | 01/14/2003
50,644 | Levolor Kirsch Window Fashions (Comp) | High Point, NC | 01/23/2003 | 01/20/2003
50,645 | Sisiutl Fisheries (Comp) | Kodiak, AK | 01/23/2003 | 01/15/2003
50,646 | Levolor Kirsch Window Fashions (Comp) | Athens, GA | 01/23/2003 | 01/20/2003
50,647 | General Electric (IUE) | Euclid, OH | 01/23/2003 | 01/22/2003
50,648 | Isaac Hazan Group (Wkrs) | Secaucus, NJ | 01/23/2003 | 01/10/2003
50,649 | Ultra Tool Company (Comp) | Baxter, MN | 01/23/2003 | 01/18/2003
50,650 | Davol, Inc. (Comp) | Lawrence, KS | 01/23/2003 | 01/22/2003
50,651 | Vishay BLH, Inc. (Wkrs) | Canton, MA | 01/23/2003 | 01/22/2003
50,652 | Carbide (The)/Graphite Group, Inc. (Comp) | Pittsburgh, PA | 01/23/2003 | 01/08/2003
50,653 | Tsuda Surface Technologies, Inc (Comp) | Henderson, NV | 01/23/2003 | 01/14/2003
50,654 | International Paper (ICWU) | Dover, OH | 01/23/2003 | 01/21/2003
50,655 | Evenflo Company, Inc. (Comp) | Ballground, GA | 01/23/2003 | 01/22/2003
50,656 | Evenflo Company, Inc. (Comp) | Suring, WI | 01/23/2003 | 01/22/2003
50,657 | Hewlett Packard (Wkrs) | Swedesboro, NJ | 01/23/2003 | 01/09/2003
50,658 | Woodstock Lamp and Shade Company (UFCW) | Woodstock, IL | 01/23/2003 | 01/09/2003
50,659 | Ametek (Comp) | Sellersville, PA | 01/23/2003 | 01/13/2003
50,660 | Abitibi Consolidated (Wkrs) | Steilacoom, WA | 01/23/2003 | 01/22/2003
50,661 | Swank, Inc. (Comp) | Norwalk, CT | 01/23/2003 | 01/17/2003
50,662 | OBG Distribution Company, LLC (Wkrs) | Celina, TN | 01/23/2003 | 01/10/2003
50,663 | Synalloy Corporation (Comp) | Spartanburg, SC | 01/23/2003 | 01/15/2003
50,664 | Tyco Healthcare Retail Group, Inc. (Comp) | Harmony, PA | 01/23/2003 | 01/21/2003
50,665 | Deepwell Tribular Services, Inc. (Comp) | Midland, TX | 01/23/2003 | 01/23/2003
50,666 | John Crowley, Inc. (Comp) | Jackson, MI | 01/23/2003 | 01/22/2003
50,667 | JDS Uniphase Corp. (Wkrs) | Manteca, CA | 01/23/2003 | 01/09/2003
50,668 | JDS Uniphase (Wkrs) | San Jose, CA | 01/23/2003 | 12/09/2002
50,669 | Shinei International (Wkrs) | Hillsboro, OR | 01/24/2003 | 01/23/2003
50,670 | Abitibi Consolidated Corporation (PACE) | Houston, TX | 01/24/2003 | 01/23/2003
50,671 | Motorola Computer Group (Wkrs) | Tempe, AZ | 01/24/2003 | 01/20/2003
50,672 | North American Marine Jet (AR) | Benton, AR | 01/24/2003 | 01/23/2003
50,673 | Monterey, Inc. (Wkrs) | Cowan, TN | 01/24/2003 | 01/16/2003
50,674 | Ametek (Comp) | Bartow, FL | 01/24/2003 | 01/21/2003
50,675 | Springfield Wire, Inc. (Comp) | Springfield, MA | 01/24/2003 | 01/20/2003
50,676 | Matrox Electronic Systems Ltd. (FL) | Boca Raton, FL | 01/24/2003 | 01/21/2003
50,677 | JD Phillips Corporation (MI) | Alpena, MI | 01/24/2003 | 12/05/2002
50,678 | Keller Manufacturing (Wkrs) | Culpeper, VA | 01/24/2003 | 01/22/2003
50,679 | TRS Ceramics, Inc. (Wkrs) | State College, PA | 01/24/2003 | 01/17/2003
50,680 | Avery Dennison (Comp) | Milford, MA | 01/24/2003 | 01/16/2003
50,681 | West Mill Clothes, Inc. (Comp) | Woodside, NY | 01/24/2003 | 01/23/2003
50,682 | Sanborn (CO) | Colorado Spring, CO | 01/24/2003 | 01/23/2003
50,683 | Decibel Products (TX) | Dallas, TX | 01/24/2003 | 01/22/2003

[FR Doc. 03-4267 Filed 2-21-03; 8:45 am]

BILLING CODE 4510-30-M